ENVIRONMENTAL PROTECTION AGENCY

40 CFR Part 52

[EPA-R04-OAR-2013-0062; FRL-9820-1]

Approval and Promulgation of Implementation Plans; Kentucky: Kentucky Portion of Cincinnati-Hamilton, Revision to the Motor Vehicle Emissions Budgets

AGENCY: Environmental Protection Agency (EPA).

ACTION: Direct final rule.

SUMMARY: EPA is taking direct final action to approve a revision to the Kentucky State Implementation Plan (SIP), submitted to EPA on August 9, 2012, by the Commonwealth of Kentucky, through the Kentucky Energy and Environment Cabinet, Division for Air Quality (DAQ). Kentucky's August 9, 2012, SIP revision includes changes to the maintenance plan for the Kentucky portion of the Cincinnati-Hamilton, OH-KY-IN, maintenance area for the 1997 8-hour ozone national ambient air quality standards (NAAQS). The Cincinnati-Hamilton, OH-KY-IN, maintenance area for the 1997 8-hour ozone NAAQS includes the counties of Boone, Campbell and Kenton in Kentucky (hereafter also referred to as Northern Kentucky); a portion of Dearborn County, Indiana; and the entire counties of Butler, Clermont, Clinton, Hamilton and Warren in Ohio. Kentucky's August 9, 2012, SIP revision proposes to update the motor vehicle emissions budget using an updated mobile emissions model, the Motor Vehicle Emissions Simulator (also known as MOVES2010a), and to increase the safety margin allocated to motor vehicle emissions budgets (MVEBs or budgets) for nitrogen oxides (NOX) and volatile organic compounds (VOC) for Northern Kentucky to account for changes in the emissions model and vehicle miles traveled (VMT) projection model. EPA is approving this SIP revision and deeming the MVEB adequate for transportation conformity purposes, because the Commonwealth has demonstrated that it is consistent with the Clean Air Act (CAA or Act).

DATES: This rule is effective on August 5, 2013 without further notice, unless EPA receives relevant adverse comment by July 5, 2013. If EPA receives such comment, EPA will publish a timely withdrawal in the Federal Register informing the public that this rule will not take effect.

ADDRESSES: Submit your comments, identified by Docket ID No. EPA-R04-OAR-2013-0062 by one of the following methods:

1. www.regulations.gov: Follow the on-line instructions for submitting comments.

2. Email: R4-RDS@epa.gov.

3. Fax: (404) 562-9019.

4. Mail: EPA-R04-OAR-2013-0062, Regulatory Development Section, Air Planning Branch, Air, Pesticides and Toxics Management Division, U.S. Environmental Protection Agency, Region 4, 61 Forsyth Street, SW., Atlanta, Georgia 30303-8960.

5. Hand Delivery or Courier: Lynorae Benjamin, Chief, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Instructions: Direct your comments to Docket ID No. EPA-R04-OAR-2013-0062. EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding federal holidays.

FOR FURTHER INFORMATION CONTACT: Kelly Sheckler, Air Quality and Transportation Modeling Section, Air Planning Branch, Air, Pesticides and Toxics Management Division, U.S. Environmental Protection Agency, Region 4, 61 Forsyth Street, SW., Atlanta, Georgia 30303-8960. Kelly Sheckler may be reached by phone at (404) 562-9222 or by electronic mail address sheckler.kelly@epa.gov.

SUPPLEMENTARY INFORMATION:

Table of Contents

I. What is the background for this action?

a. SIP Budgets and Transportation Conformity

b. Prior Approval of Budgets

c. The MOVES Emissions Model and Regional Transportation Conformity Grace Period

d. Submissions of New Budgets Based on MOVES2010a

II. What are the criteria for approval?

III. What is EPA's analysis of the Commonwealth's SIP revision?

a. Approvability of the MOVES2010a-Based Budgets

b. Applicability of MOVES2010a-Based Budgets

IV. Final Action

V. Statutory and Executive Order Reviews

I. What Is the background for this action?

a. SIP Budgets and Transportation Conformity

Under the CAA, states are required to submit, at various times, control strategy SIP revisions and maintenance plans for nonattainment and maintenance areas for a given NAAQS. These emission control strategy SIP revisions (e.g., reasonable further progress and attainment demonstration SIP revisions) and maintenance plans include budgets of on-road mobile source emissions for criteria pollutants and/or their precursors to address pollution from cars, trucks, and other on-road vehicles. SIP budgets are the portions of the total allowable emissions that are allocated to on-road vehicle use that, together with emissions from other sources in the area, will provide for attainment or maintenance. The budget serves as a ceiling on emissions from an area's planned transportation system. For more information about budgets, see the preamble to the November 24, 1993, transportation conformity rule (58 FR 62188).

Under section 176(c) of the CAA, transportation plans, transportation improvement programs (TIPs), and transportation projects must “conform” to (i.e., be consistent with) the SIP before they can be adopted or approved. Conformity to the SIP means that transportation activities will not cause new air quality violations, worsen existing air quality violations, or delay timely attainment of the NAAQS or an interim milestone. The transportation conformity regulations can be found at 40 CFR Parts 51 and 93.

Before budgets can be used in conformity determinations, EPA must affirmatively find the budgets adequate. However, adequate budgets do not supersede approved budgets for the same CAA purpose. If the submitted SIP budgets are meant to replace budgets for the same CAA purpose and year(s) addressed by a previously approved SIP, as in the case of Kentucky's MOVES2010a VOC and NOX budgets for the 1997 8-hour ozone NAAQS (the subject of this action), EPA must approve the revised SIP and budgets, and can affirm the budgets are adequate at the same time. Once EPA approves the SIP revision and determines the budgets adequate, the revised budgets must be used by the state and federal agencies in determining whether transportation activities conform to the SIP as required by section 176(c) of the CAA. EPA's substantive criteria for determining the adequacy of budgets are set out in 40 CFR 93.118(e)(4).

b. Prior Approval of Budgets

Northern Kentucky, as part of the Cincinnati-Hamilton, OH-KY-IN area, was designated as nonattainment for the 1997 8-hour ozone NAAQS effective June 15, 2004 (69 FR 23858).¹ Subsequently, Northern Kentucky, as part of the Cincinnati-Hamilton, OH-KY-IN area, was redesignated as attainment for the 1997 8-hour ozone NAAQS on August 5, 2010, (75 FR 47218). As part of this redesignation, EPA approved a 10-year air quality maintenance plan covering the years 2010 through 2020. The 10-year air quality maintenance plan for Northern Kentucky established MVEBs for 2015 and 2020 for transportation conformity purposes using the MOBILE 6.2 model which was the latest approved emissions model at that time. That plan satisfied the CAA requirement for a 1997 8-hour ozone maintenance plan.

The same counties in Northern Kentucky were designated nonattainment for the 1997 annual fine particulate matter (PM2.5) NAAQS. See 70 FR 944 (January 5, 2005). Subsequently, on December 15, 2011, EPA approved a redesignation request for this same area for the 1997 annual PM2.5 from nonattainment to attainment. See 76 FR 77903. Kentucky's 1997 annual PM2.5 maintenance plan included MVEBs that were derived with the MOVES model—the latest approved emissions model at that time.

Kentucky is taking the opportunity through the Commonwealth's August 9, 2012, SIP revision to align and update the mobile model used to derive the MVEBs for ozone for the ease of implementing transportation conformity requirements in the Northern Kentucky Area. Specifically, Kentucky has opted to update the 1997 8-hour ozone MVEBs with the MOVES model. This update would align the 1997 8-hour ozone MVEBs with the most current mobile model and would align these MVEBs with the mobile model (i.e., MOVES) that has to be used for both the ozone and PM2.5 transportation conformity analysis.

c. The MOVES Emissions Model and Regional Transportation Conformity Grace Period

The MOVES model is EPA's state-of-the-art tool for estimating highway emissions. The model is based on analyses of millions of emission test results and considerable advances in the Agency's understanding of vehicle emissions. MOVES incorporates the latest emissions data, more sophisticated calculation algorithms, increased user flexibility, new software design, and significant new capabilities relative to those reflected in MOBILE 6.2.

EPA announced the release of MOVES2010 in March 2010 (75 FR 9411). EPA subsequently released two minor model revisions: MOVES2010a in September 2010 and MOVES2010b in April 2012. Both of these minor revisions enhance model performance and do not significantly affect the criteria pollutant emissions results from MOVES2010.

MOVES will be required for new regional emissions analyses for transportation conformity determinations (“regional conformity analyses”) outside of California that begin after March 2, 2013 (or when EPA approves MOVES-based budgets, whichever comes first).² The MOVES grace period for regional conformity analyses applies to both the use of MOVES2010 and approved minor revisions (e.g., MOVES2010a and MOVES2010b). For more information, see EPA's “Policy Guidance on the Use of MOVES2010 and Subsequent Minor Model Revisions for State Implementation Plan Development, Transportation Conformity, and Other Purposes” (April 2012), available online at: www.epa.gov/otaq/stateresources/transconf/policy.htm#models.

² Upon the release of MOVES2010, EPA established a two-year grace period before MOVES is required to be used for regional conformity analyses (75 FR 9411). EPA subsequently promulgated a final rule on February 27, 2012, to provide an additional year before MOVES is required for these analyses (77 FR 11394).

EPA encouraged areas to examine how MOVES would affect future transportation plan and TIP conformity determinations so, if necessary, SIPs and budgets could be revised with MOVES or transportation plans and TIPs could be revised (as appropriate) prior to the end of the regional transportation conformity grace period. EPA also encouraged state and local air agencies to consider how the release of MOVES would affect analyses supporting SIP submissions under development (77 FR 9411 and 77 FR 11394).

For consistency purposes with future Transportation conformity determinations, the interagency consultation partners for transportation conformity decided to update the 1997 8-hour ozone MOBILE6.2-based MVEBs with MOVES

d. Submission of New Budgets Based on MOVES2010a

On August 9, 2012, the Commonwealth submitted a SIP revision to revise the 1997 8-hour ozone MVEBs using the MOVES2010a emissions model for the Kentucky portion of the Ohio, Kentucky and Indiana MSA. The revision reflects changes in emission estimates due to new emissions model, VMT projection models, and other emission model input data. The Indiana and Ohio portion of this Area have separate MVEBs. In its August 9, 2012, SIP revision, Kentucky also provides for a safety margin to the 1997 8-hour ozone MVEBs for the years 2015 and 2020 for both NOX and VOC. The 1997 8-hour ozone MVEBs (expressed in tons per day (tpd)) that are being updated through today's action were originally approved by EPA on August 5, 2010 (75 FR 47218). These MVEBs were established for NOX and VOC for the years, 2015 and 2020.

II. What are the criteria for approval?

EPA has always required under the CAA that revisions to existing SIPs continue to meet applicable requirements (i.e., reasonable further progress (RFP), attainment, or maintenance). States that revise their existing SIPs to include MOVES budgets must therefore show that the SIP continues to meet applicable requirements with the new level of motor vehicle emissions contained in the budgets. The SIP must also meet any applicable SIP requirements under CAA section 110.

In addition, the transportation conformity rule (40 CFR 93.118(e)(4)(iv)) requires that “the motor vehicle emissions budget(s), when considered together with all other emissions sources, is consistent with applicable requirements for [RFP], attainment, or maintenance (whichever is relevant to the given implementation plan submission).” This and the other adequacy criteria found at 40 CFR 93.118(e)(4) must be satisfied before EPA can find submitted budgets adequate or approve them for conformity purposes.

In addition, areas can revise their budgets and inventories using MOVES without revising their entire SIP if: (1) The SIP continues to meet applicable requirements when the previous motor vehicle emissions inventories are replaced with MOVES base year and milestone, attainment, or maintenance year inventories; and (2) the state can document that growth and control strategy assumptions for non-motor vehicle sources continue to be valid and any minor updates do not change the overall conclusions of the SIP. For example, the first criterion could be satisfied by demonstrating that the emissions reductions between the base year and attainment or maintenance year are the same or greater using MOVES than they were previously.

For more information, see EPA's “Policy Guidance on the Use of MOVES2010 and Subsequent Minor Model Revisions for State Implementation Plan Development, Transportation Conformity, and Other Purposes” (April 2012).

III. What is EPA's analysis of the Commonwealth's SIP revision?

As discussed above, EPA issued an updated motor vehicle emissions model known as MOVES. In its announcement of this model, EPA established a two-year grace period for continued use of MOBILE6.2 in regional emissions analyses for transportation plan and TIPs conformity determinations (extending to March 2, 2013), after which states (other than California) must use MOVES in conformity determinations for TIPs. MOBILE6.2 was the applicable mobile source emissions model that was available when the Commonwealth submitted the original maintenance plan for the 1997 8-hour ozone NAAQS. The Commonwealth has opted to update its 1997 8-hour ozone MVEBs with the MOVES model for ease of implementing transportation conformity requirements.

Table 1—Original MVEBs for Northern Kentucky
[Boone, Campbell and Kenton Counties]
| 2015 (tpd) | 2020 (tpd)
NOX | 14.40 | 13.27
VOC | 9.76 | 10.07

The following tables show the difference between the MOBILE6.2 MVEBs and the MOVES MVEB.

Table 2—VOC Emissions Inventory: MOBILE6.2 versus MOVES MVEB
VOC: Sector | MOBILE6.2: 2005 | MOBILE6.2: 2008 | MOBILE6.2: 2015 | MOBILE6.2: 2020 | MOVES: 2005 | MOVES: 2008 | MOVES: 2015 | MOVES: 2020 | MOVES: 2005 | MOVES: 2008 | MOVES: 2015 | MOVES: 2020 | MOVES: 2005 | MOVES: 2008 | MOVES: 2015 | MOVES: 2020
Point | 4.02 | 4.26 | 4.65 | 4.93 | 4.02 | 4.26 | 4.65 | 4.93
Area | 21.43 | 20.63 | 20.36 | 20.36 | 21.43 | 20.63 | 20.36 | 20.36
Non-Road | 9.52 | 8.53 | 7.60 | 7.31 | 9.52 | 8.53 | 7.60 | 7.31
Mobile | 11.17 | 10.14 | 7.76 | 7.07 | 25.20 | 16.53 | 9.09 | 5.89
Total | 46.14 | 43.56 | 40.37 | 39.67 | 60.17 | 49.95 | 41.70 | 38.49

Table 3—NOX Emissions Inventory: MOBILE6.2 versus MOVES MVEBs
NOX: Sector | MOBILE6.2: 2005 | MOBILE6.2: 2008 | MOBILE6.2: 2015 | MOBILE6.2: 2020 | MOVES: 2005 | MOVES: 2008 | MOVES: 2015 | MOVES: 2020 | MOVES: 2005 | MOVES: 2008 | MOVES: 2015 | MOVES: 2020 | MOVES: 2005 | MOVES: 2008 | MOVES: 2015 | MOVES: 2020
Point | 23.98 | 23.32 | 25.13 | 26.53 | 23.98 | 23.32 | 25.13 | 26.53
Area | 10.57 | 10.40 | 10.35 | 10.35 | 10.57 | 10.40 | 10.35 | 10.35
Non-Road | 27.72 | 23.69 | 20.49 | 19.57 | 27.72 | 23.69 | 20.49 | 19.57
Mobile | 26.64 | 21.78 | 11.40 | 8.27 | 80.15 | 55.34 | 31.56 | 18.74
Total | 88.91 | 79.19 | 67.37 | 64.72 | 142.42 | 112.75 | 87.53 | 75.19

Although the on-road mobile source emissions increased from the original MOBILE 6.2 MVEBs for a number of projection years, the revised data does not change the ozone attainment status for the Cincinnati-Hamilton, OH-KY-IN area. The point, area, and non-road sectors of the SIP emissions inventory are not affected. The only affected portions are the on-road mobile source emissions and the overall totals. EPA notes that the change in the projected emissions for on-road mobile sources is due solely to the transitions from reliance on MOBILE 6.2 MVEBs to reliance on MOVES MVEBs.

The Commonwealth is currently allocating portions of the available safety margin ³ to the MVEBs to account for new emissions models, VMT projections models, as well as changes to future vehicle mix assumptions, that influence the emission estimations. A portion of the safety margin for both VOC and NOX will be allocated for budget years 2015 and 2020 to address the additional projected emissions increases associated with the use of the MOVES model. The MVEB years will remain the same with the MOVES updated numbers. Specifically, 2.06 tpd of the available VOC safety margin is allocated to the 2015 MVEBs and 2.87 tpd for the 2020 MVEBs.⁴ Additionally, 6.31 tpd of the available NOX safety margin are allocated to the 2015 MVEBs and 9.39 tpd for the 2020 MVEBs. The remaining safety margin for VOC for 2015 is 6.19 tpd and for 2020 is 8.59 tpd. The remaining safety margin for NOX for 2015 is 18.91 tpd and for 2020 is 28.17 tpd.

³ A safety margin is the difference between the attainment level of emissions from all source categories (i.e., point, area, and mobile) and the projected level of emissions from all source categories. The State may choose to allocate some of the safety margin to the MVEB, for transportation conformity purposes, so long as the total level of emissions from all source categories remains equal to or less than the attainment level of emissions.

⁴ EPA notes that projected mobile emissions for 2020 decrease from 7.07 tpd under the MOBILE 6.2 model projection to 5.89 tpd under the MOVES model projection. Nonetheless, KDAQ has proposed to allocate 2.87 tpd of its VOC safety margin to the 2020 MVEBs to account for potential changes in methodology that may occur in the future such as updated socioeconomic data, new models, and other factors.

Table 4—Northern Kentucky NOX MVEBs
[tpd]
| 2015 | 2020
NOX Emissions
On-Road Mobile Emissions | 31.56 | 18.74
Safety Margin Allocated to MVEBs | 6.31 | 9.39
NOX Conformity MVEBs | 37.87 | 28.13

Table 5—Northern Kentucky VOC MVEBs
[tpd]
| 2015 | 2020
VOC Emissions
On-Road Mobile Emissions | 9.09 | 5.89
Safety Margin Allocated to MVEBs | 2.06 | 2.87
VOC Conformity MVEBs | 11.15 | 8.76

Taking into consideration the portion of the safety margin applied to the MVEBs, the resulting difference between the attainment level of emissions from all sources and the projected level of emissions from all sources in the maintenance area, the Area still attains the NAAQS and meets the maintenance requirements. The new safety margins are listed below in Table 6.

Table 6—New Safety Margins for the Northern Kentucky
Year | VOC tpd | NOX tpd
2015 | 6.19 | 18.91
2020 | 8.59 | 28.17

As shown in Tables 2 and 3 above, VOC and NOX total emissions in Northern Kentucky are projected to steadily decrease from 2008 to the maintenance year of 2020. This VOC and NOX emission decrease demonstrates continued maintenance of the 8-hour ozone NAAQS for ten years from 2010 (the year the Area was effectively designated attainment for the 1997 8-hour ozone NAAQS) as required by the CAA.

a. Approvability of the MOVES2010a-Based Budgets

EPA is approving the MOVES2010a-based budgets submitted by the Commonwealth for use in determining transportation conformity in Northern Kentucky for the 1997 8-hour ozone NAAQS. EPA is making this approval based on our evaluation of these budgets using the adequacy criteria found in 40 CFR 93.118(e)(4) and our evaluation of the Commonwealth's submittal and SIP requirements. EPA has determined, based on its evaluation, that the Area's SIP would continue to serve its intended purpose with the submitted MOVES2010a-based budgets at 40 CFR 93.118(e)(4). Specifically:

• The submitted SIP was endorsed by Kentucky Energy and Environment Cabinet Secretary, Leonard K. Peters, and was subject to a state public hearing ((e)(4)(i));

• Before the submitted SIP was submitted to EPA, consultation among federal, state, and local agencies occurred, full documentation was provided to EPA [and EPA's stated concerns were addressed, if applicable] ((e)(4)(ii));

• The budgets are clearly identified and precisely quantified ((e)(4)(iii));

• The budgets, when considered together with all other emissions sources, are consistent with applicable requirements for reasonable further progress, attainment, or maintenance ((e)(4)(iv));

• The budgets are consistent with and clearly related to the emissions inventory and control measures in the submitted SIP ((e)(4)(v); and,

• The revisions explain and document changes to the previous budgets, impacts on point and area source emissions, and changes to established safety margins, and reasons for the changes (including the basis for any changes related to emission factors or vehicle miles traveled) ((e)(4)(vi)).

EPA has always required under the CAA that revisions to existing SIPs and budgets continue to meet applicable requirements (e.g., RFP or attainment). Therefore, states that revise existing SIPs with MOVES must show that the SIP continues to meet applicable requirements with the new level of motor vehicle emissions calculated by the new model.

To that end, Kentucky DAQ's submitted SIP meets EPA's two criteria for revising budgets without revising the entire SIP if:

(1) The SIP continues to meet applicable requirements when the previous motor vehicle emissions inventories are replaced with [MOVES model used] base year and milestone, attainment, or maintenance year inventories, and

(2) The state can document that growth and control strategy assumptions for non-motor vehicle sources continue to be valid and any minor updates do not change the overall conclusions of the SIP.

As described above in section above, the Area meets both of the above criteria based on information provided to EPA or if there are more significant changes in other inventory categories. Based on review of the SIP and the new budgets provided, EPA is determining that the SIP will continue to meet applicable requirements if the revised motor vehicle emissions inventories are replaced with MOVES2010a.

b. Applicability of MOVES2010a-Based Budgets

Pursuant to the Commonwealth's request, EPA is approving the revised budgets. The Commonwealth's existing MOBILE6.2 budgets will no longer be applicable for transportation conformity purposes upon the effective date of this final approval.

In addition, once EPA approves the MOVES2010a-based budgets, the regional transportation conformity grace period for using MOVES2010 (and subsequent minor revisions) for the pollutants included in these budgets will end for Northern Kentucky for the 1997 8-hour ozone NAAQS on the effective date of this final approval.⁵

⁵ For more information, see EPA's “Policy Guidance on the Use of MOVES2010 and Subsequent Minor Revisions for State Implementation Plan Development, Transportation Conformity, and Other Purposes,” (April 2012).

IV. Final Action

EPA is taking direct final action to approve Commonwealth's August 9, 2012, SIP revision to replace the existing MOBILE 6.2 MVEBs for VOC and NOX with new budgets based on MOVES2010a. In addition, EPA is taking direct final action to allocate a portion of the available safety margin to the MOVES2010a MVEBs for Northern Kentucky for the 1997 8-hour ozone NAAQS. EPA is approving this action because it is consistent with the CAA and the transportation conformity requirements at 40 CFR 93.

EPA is publishing this rule without prior proposal because the Agency views this as a non-controversial amendment and anticipates no adverse comments. However, in the proposed rules section of this Federal Register publication, EPA is publishing a separate document that will serve as the proposal to approve the SIP revision should an adverse comment be filed. This rule will be effective on August 5, 2013 without further notice unless the Agency receives adverse comment by July 5, 2013. If EPA receives such comments, then EPA will publish a document withdrawing the final rule and informing the public that the rule will not take effect. All public comments received will then be addressed in a subsequent final rule based on the proposed rule. EPA will not institute a second comment period on this action. Any parties interested in commenting must do so at this time. If no such comments are received, the public is advised this rule will be effective on August 5, 2013 and no further action will be taken on the proposed rule.

V. Statutory and Executive Order Reviews

Under the CAA, the Administrator is required to approve a SIP submission that complies with the provisions of the Act and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by Commonwealth law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 5, 2013. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. See section 307(b)(2).

List of Subjects in 40 CFR Part 52

Environmental protection, Air pollution control, Ozone, Intergovernmental relations, Incorporation by reference, Nitrogen dioxides, Reporting and recordkeeping requirements, and Volatile organic compounds.

Dated: May 22, 2013.
A. Stanley Meiburg,
Acting Regional Administrator, Region 4.

40 CFR part 52 is amended as follows:

PART 52—[AMENDED]

1. The authority citation for part 52 continues to read as follows:

Authority: 42 U.S.C. 7401 et seq.

Subpart S—Kentucky

2. Section 52.920 (e) is amended by adding a new entry at the end of the table for the “MVEB Update for the 1997 8-hour Ozone Maintenance Plan for Northern Kentucky” to read as follows:

§ 52.920 Identification of plan.

* * * * *

(e) * * *

EPA Approved Kentucky Non-Regulatory Provisions
Name of non-regulatory SIP provision | Applicable geographic or nonattainment area | State submittal date/effective date | EPA approval date | Explanation
* * * * * * *
MVEB Update for the 1997 8-hour Ozone Maintenance Plan for Northern Kentucky | Boone, Campbell, and Kenton Counties, KY | 8/9/12 | 6/5/13 [Insert citation of publication] |

[FR Doc. 2013-13186 Filed 6-4-13; 8:45 am]

BILLING CODE 6560-50-P